DEPARTMENT OF AGRICULTURE

Forest Service

Buckhorn Exploration Project 2010, Okanogan-Wenatchee National Forest, Okanogan County, WA

Joint Lead Agencies: Forest Service, Department of Agriculture; and Department of Natural Resources, Washington State.

Cooperating Agencies: Bureau of Land Management, Department of the Interior; and Department of Ecology, Washington State.

ACTION: Notice of Intent to prepare an Environmental Impact Statement.

SUMMARY: The Department of Agriculture, Forest Service, in cooperation with the Department of the Interior, Bureau of Land Management (BLM), Washington State Department of Natural Resources (DNR), and Washington Department of Ecology (WADOE), will prepare an Environmental Impact Statement (EIS) for a proposal by Echo Bay Exploration, Inc. (Echo Bay) to explore their mineral holdings in Township 40 North, Range 30 East, Sections 1, 12 to 15, 22 to 27, and 34 to 36; and in Township 40 North, Range 31 East, Sections 5 to 9 and 16 to 20, W.M.

Proposed exploration operations will be located in Okanogan County, Washington on unpatented mining claims on public lands administered by the Tonasket Ranger District of the Forest Service and the Wenatchee Field Office of the BLM. Exploration operations will also be located on state mineral lease lands, private lands, and patented mining claims administered by the Washington State Department of Natural Resources.

The EIS will evaluate a range of reasonable alternatives to the proposed action and will assess the potential impacts of each alternative. The public will have an opportunity to comment on the EIS, including the range of alternatives and the impacts analysis.

The agencies are giving notice of this analysis so that interested and affected individuals are aware of how they may participate and contribute to the final decision.

DATES: Comments concerning the scope of this analysis must be received by January 3, 2011. A public information meeting is planned to be held in Oroville, Washington on December 14, 2010 at the Oroville High School Commons from 5 to 7:30 p.m. Details concerning any additional public meetings, none presently scheduled, will be announced via local news media outlets. The Draft EIS is expected to be filed with the Environmental Protection Agency (EPA) in September 2011. The Final EIS is expected to be filed with the EPA in April 2012.

ADDRESSES: Submit written comments and suggestions concerning the scope of the analysis to Phillip Christy, District Environmental Coordinator, 1 West Winesap, Tonasket, WA 98855, phone (509) 486-5137. Comments may also be sent via e-mail to comments-pacificnorthwest-okanogan-tonasket@fs.fed.us, or via facsimile to 509-486-1922. Electronic comments must be part of an e-mail message, or as an attachment in either Microsoft Word (doc or docx), Rich Text Format (rtf), or Portable Document Format (pdf). Electronic comments containing viruses will be rejected.

FOR FURTHER INFORMATION CONTACT: Direct questions about the proposed action and EIS to Phillip Christy, District Environmental Coordinator, 1 West Winesap, Tonasket, Washington 98855, phone (509) 486-5137, Kelly Courtright, BLM Mining Engineer, 1103 N. Fancher Road, Spokane, WA 99212, phone (509) 536-1218, or Fred Greef, SEPA Coordinator, Washington State Department of Natural Resources, P.O. Box 7015, Olympia, WA 98504-7015, phone (360) 902-1628. Individuals who use telecommunication devices for the deaf (TDD) may call the Federal Information Relay Service (FIRS) at 1-800-877-8339 between 8 a.m. and 8 p.m., Eastern Time, Monday through Friday.

SUPPLEMENTARY INFORMATION: The General Mining Law of 1872, as amended, provides Echo Bay the statutory right to explore for and develop mineral resources on federally administered lands. Federal policy encourages the development of federal mineral resources and requires reclamation of disturbed federal lands. This right carries with it the responsibility to assure that operations include adequate and responsible measures to prevent unnecessary or undue degradation of federal lands and to provide for reasonable reclamation.

The BLM administers the surface acres of public land for which the BLM is responsible and the federal subsurface mineral estate under the Mining Law and the Federal Land Policy and Management Act of 1976 (FLPMA). FLPMA also governs the BLM's administration of public lands not open to location under the Mining Law. The Mining Law allows the location and use of mining claims “under such regulations prescribed by law” and Section 302(b) of FLPMA and recognizes the entry and rights of mining claimants while directing that the BLM take any action necessary to prevent unnecessary or undue degradation of the lands. These two laws form the primary statutory basis for Surface Management Regulation codified at 43 CFR 3809 and BLM's purpose and need in reviewing and approving the Plan.

Under Washington State mining laws, metal mining/milling as an industry is allowable if it can be accomplished in an environmentally sensitive manner (RCW 78.56). It is the intent of Washington State laws to ensure a high degree of environmental protection while allowing the proper development and use of the state's natural resources, including its mineral resources. The Washington State Surface Mining Reclamation Act (RCW 78.44) addresses exploratory drilling and reclamation activities in the State of Washington.

Echo Bay has requested authorization to start this program of exploration drilling in the fall of 2011 or winter of 2012. The prospecting and exploration drilling operations would continue for approximately 5 years. Concurrent reclamation would be conducted where safe and practical to do so. Reclamation monitoring would continue for approximately three years following the completion of reclamation operations.

Echo Bay's Plan of Operations may be viewed on-line at http://www.fs.fed.us/r6/wenatchee/projects/projects.shtml?project=32875.

Purpose and Need for Action

The purpose and need for the project is to respond to Echo Bay's request to collect further information regarding economic gold resources present within the proposed exploration boundaries surrounding Buckhorn Mountain using geophysical and geochemical studies and exploration drilling and to develop reasonable mitigation to protect surface resources.

Under 36 CFR 228.8 all operations shall be conducted so as, where feasible, to minimize adverse environmental impacts on National Forest surface resources including air quality, water quality, solid wastes, scenic values, fisheries and wildlife habitat, roads, and at the earliest possible time reclamation should take place.

The BLM under 43 CFR 3809.1(a) must prevent unnecessary and undue degradation of public lands by the operations authorized by the mining laws, and (b) provide the maximum possible coordination with appropriate State agencies. Also, in compliance with 43 CFR 3809.203(b) the “BLM will continue to be responsible for all land-use planning on public lands and for implementing other Federal laws relating to the public lands for which the BLM is responsible.” Additionally, an Environmental Impact Statement is required to be prepared in accordance with BLM Handbook 1790.1, 7.2(7), prior to the approval of any mining operation where the area to be mined, including any area of disturbance, over the life of the mining plan is 640 acres or larger in size.

Since the Okanogan National Forest Land and Resource Management Plan could not predict specifics as to where, when, and what kind of mineral exploration or development might be proposed, nor specific needs of that exploration or development in terms of surface resources, the Plan anticipated that the intensive surface use required for mineral exploration and development projects might require Forest Plan amendments (LRMP, page IV-21). To allow Echo Bay reasonable access to their mining claims, it may be necessary to amend the Okanogan National Forest Land and Resource Management Plan (LRMP) relating to road densities, deer cover, operating period, impacts to old growth, disturbance, and impacts to Management Requirement cells.

Proposed Action

The Forest Supervisor for the Okanogan-Wenatchee National Forest and the Field Manager for the BLM's Wenatchee Field Office propose to authorize Echo Bay to explore their mining claims in a logical sequence of prospecting and exploration activities beginning in 2011 or 2012. Exploration would use a phased approach to minimize adverse environmental impacts and to prevent unnecessary and undue degradation of public lands and surface resources by initially using remote sensing and other non-surface disturbing prospecting techniques to identify target areas.

Exploration drilling within the identified target areas would leave other areas of low mineral potential undisturbed. Since a phased exploration approach is proposed, annual road usage and locations of construction activities would be dependent upon the results of each phase. The initial drill hole spacing would range from 400 to 500 feet between drill holes. If initial drill results are favorable, the drill program would be modified for a drill spacing of 200 to 250 feet. Continued favorable drill results would require drill hole spacing from 50 to 100 feet apart. The drill holes would average 1200 feet deep (600 to 1600′).

A work plan describing the activities for the upcoming season (or as often as changes are made to the authorized work plan), including maps showing specific locations of drill sites, road alignments, water conveyance and storage locations, monitoring locations, or ancillary facilities, would be submitted for review and approval to the administering agency prior to starting construction of drill pad sites, drill access roads, and ancillary facilities or initiation of a geophysical or geochemical survey.

The Forest Service, BLM, WADOE, and DNR propose to authorize the following total disturbances within a 10,041 acre area over five years (all land ownerships):

1. Construct up to 72.3 miles (380,810 linear feet) of new drill roads;

2. Construct up to 675 new drill pad sites;

3. Drill up to 965 exploration drill holes;

4. Construct up to 33 acres of water conveyance and storage facilities, including a new water well on National Forest System (NFS) lands;

5. Develop up to 8 acres of ancillary disturbance for staging of equipment and materials;

6. Convert up to 4 drill holes on NFS lands to monitoring wells; and

7. Allow access 24 hours/day, 365 days/year, utilizing up to 20 drill rigs at any given time, weather permitting.

Under the proposed Block Permitting approach, the amount of road and pad disturbance would be dependent on the results from phased exploration activities and may vary from that described above. However, the total amount would not exceed 507 acres of new disturbance. Since this is an exploration project, Echo Bay is unable to predict the exact locations of all exploration roads and drill sites at this time. As exploration proceeds through the phases, and as resource information becomes available from the EIS Baseline Study Programs, Echo Bay would provide the agencies with specific proposed locations of disturbance in Work Plans for agency review and approval. The Work Plans would be designed to avoid (if possible) impacts to important resources (i.e. cultural, wildlife, riparian) and areas of concern identified through Baseline Study Programs. Appropriate bonding would be in place prior to all phases of proposed surface disturbance work described in the Work Plans.

The proposed number of drill holes by surface jurisdiction: Private lands—80, BLM managed lands—235, State of Washington Mineral Leases—170, and Forest Service managed lands—480 (total 965).

The proposed acres of surface disturbance by jurisdiction are: Private lands—30 acres, BLM administered public lands—117 acres, State of Washington Mineral Leases—60 acres, and Forest Service administered public lands—300 acres (total 507 acres).

If an action alternative is selected, the Forest Supervisor for the Okanogan-Wenatchee National Forest proposes to amend the Okanogan National Forest Land and Resource Management Plan (LRMP) relating to road closures and densities in the Myers Creek, Cedar Creek, and Nicholson Creek drainages. To offset the opening of roads in these drainages, roads closures may be required as mitigation, including temporary closing of Forest Road 3575-100 from near the junction with Forest Road 3575-120 to near the junction with Forest Road 3575-101 and temporary closing of Forest Road 3575-290. On NFS land, a new temporary management prescription for exploration operations with associated standards and guidelines may be developed and would be an integral part of each of the action alternatives.

1. Riparian standards and guidelines may be amended to allow the construction of drill roads through riparian areas and the construction of drill pads and the drilling of exploration holes in riparian areas;

2. Deer winter and summer cover standards for hiding, thermal, and snow intercept thermal cover may be amended to allow construction of new drill roads and pads where needed for exploration;

3. Road density standards in Management Areas (MA) 14, 25, and 26 may be amended to allow the construction of necessary drill roads;

4. Visual quality objective standards may be amended to allow the construction of drill roads and pads and drilling related activities, as needed;

5. Raptor nests may not be protected and timing restrictions may not be followed to allow for year-round exploration activities;

6. Deer winter range timing restrictions in MA 14 and 26 may not be followed to allow orderly exploration activities. Motorized vehicle access may be allowed year-round;

7. Timber removal and motorized vehicle use in old growth stands, if any exist, may be required for exploration activities. No old growth stands have been presently identified; and

8. Wildlife Management Requirement cells may need to be moved, modified, or eliminated.

Once exploration and reclamation activities have ceased, the Forest Service would return the reclaimed areas to management under the goals and objectives of the underlying management areas or replacement management areas in any future LRMP.

Possible Alternatives

Depending upon significant issues raised related to the proposed action, alternatives to the proposed action may be formulated. Possible alternatives may include seasonal or timing restrictions, limiting the number of drill rigs operating at any one time, or yearly caps on the amount of drilling per year.

Possible alternatives may be formed based on the source and delivery of water needed for drilling including the possibility of eliminating the well on NFS lands and hauling all water used for the project from private and municipal wells off agency lands.

Possible alternatives may be formed based on the use of more helicopter-based drilling in the early stages of exploration, minimizing the construction of new drill access roads to areas of proposed intensive drilling or minimizing the need to build roads on steeper side slopes and in riparian areas.

Lead and Cooperating Agencies

The USDA Forest Service will be the lead agency (under the National Environmental Policy Act [NEPA]) in accordance with 40 CFR 1501.5(b), and is responsible for preparation of the EIS. The DNR will be the lead state agency (under the State Environmental Policy Act [SEPA]). The BLM will be a cooperating federal agency (under NEPA). The WADOE will be a cooperating state agency (under SEPA).

Responsible Officials

The Forest Supervisor for the Okanogan-Wenatchee National Forest will be the responsible official for this EIS and its Record of Decision (ROD) for NFS land. The Field Manager for the BLM's Wenatchee Field Office will be the responsible official for this EIS and its ROD on BLM administered lands. As the responsible officials, they will document the decision and reasons for their decision in the two RODs being prepared for federal lands.

The Washington DNR, Geology & Earth Resources Division Manager is the SEPA responsible official for EIS development, representing State and local agencies. The State does not prepare a formal decision for the EIS, but instead makes decisions based on this document in individual State permit decisions. The Forest Service decision will be subject to Forest Service Appeal Regulations in accordance with 36 CFR Part 215. The BLM decision will be subject to BLM Administrative Appeal Regulations in accordance with the regulations contained in 43 CFR, Part 4, and Form 1842-1.

Nature of the Decision To Be Made

The Forest Supervisor for the Okanogan—Wenatchee National Forest must decide whether or not to approve the Proponent's Plan of Operations as submitted, or approve a modified Plan of Operations with additional mitigation measures and monitoring items. The Forest Supervisor will consider both the impacts as a result of project activities on Forest Service administered public lands and rights-of-way, as well as cumulative impacts off of Forest Service administered public lands. Additionally, the Forest Supervisor must decide whether or not to grant a special use permit to Echo Bay to drill a well on NFS land and allow withdrawal of up to 120,000 gallons of water per day. The Forest Supervisor must decide whether or not the existing road use permit for the ore haul route should be amended to allow for additional commercial traffic on Forest roads. The Forest Supervisor must also decide whether or not to amend the Okanogan National Forest Land and Resource Management Plan to implement the project. The Forest Supervisor will consider both the impacts as a result of project activities on NFS administered public lands and rights-of-way, as well as cumulative impacts off of NFS administered public lands.

The Field Manager for the Wenatchee Field Office must decide whether or not to approve the Proponent's Plan of Operations as submitted, or approve a modified Plan of Operations with additional mitigation measures and monitoring items. The Field Manager will consider both the impacts as a result of project activities on BLM administered public lands and rights-of-way, as well as cumulative impacts off of BLM administered public lands.

Preliminary Issues

A number of preliminary issues were identified by the lead and cooperating agencies including:

(1) Exploration operations could adversely affect land used by wildlife, recreationists, Tribal members, and the grazing permittees;

(2) Exploration activities and additional project road use could result in cattle injury or death;

(3) Exploration activities, including additional road use, could cause sedimentation and toxic substances to enter and degrade riparian areas and wetlands, decreasing water quality and adversely impacting fish, amphibians, and plants that use these areas;

(4) Exploration activities, including additional road use, may cause air quality degradation from dust, diesel exhaust, and toxic substances that could affect vegetation, tourism, recreation activities, viewpoints, aesthetic enjoyment of the area, and the quality of life, health, and safety for residents;

(5) Exploration activities, including drill vehicles and heavy trucks, could increase noise, which could impact tourism, recreation activities, aesthetic enjoyment of the area, and the quality of life and solitude for residents. Noise could carry for long distances and potentially impact adjacent property owners.

(6) Project activities could disturb wildlife, including threatened, endangered, and sensitive species, through human presence, noise, and increased road density, and could increase impacts from the semi-impermeable barrier to movement along the ore haul route as a result of additional traffic and affect the north-south wildlife corridor;

(7) Exploration activities may spread noxious weeds. The use of herbicides to treat noxious weeds found during monitoring has the potential to affect non-target species;

(8) The proposed action may contribute to cumulative impacts, which may have significant effects on the environment, and may contribute to cumulative effects of past, present, and reasonably foreseeable future actions;

(9) Exploration activities may adversely affect members of the Confederated Tribes of the Colville Reservation and may impact cultural resources of concern to Tribal members, and their rights reserved by Executive Order, to hunt, fish, and gather on the former north half of the Colville Reservation; and

(10) Exploration activities may cause light pollution potentially affecting tourism, recreational activities, viewpoints, and aesthetic enjoyment of the area, particularly for residents of the Myers Creek valley.

Permits, Authorizations, Approvals, or Licenses Required

The following permits, authorizations, approvals, or licenses would be required for the project:

Forest Service: a final Plan of Operations, a Road Use Permit modification and a Special Use Permit for a water well.

Bureau of Land Management: A final Mining and Reclamation Plan.

Environmental Protection Agency: A Stormwater Permit, a Spill Prevention and Countermeasure Plan (SPCC), a review of Section 404 permit, and Notification of Hazardous Waste Activity (no formal permit necessary).

U.S. Fish and Wildlife Service: Threatened and Endangered Species Consultation.

Department of Alcohol, Tobacco, and Firearms: Explosive User Permit.

U.S. Army Corps of Engineers/State of Washington Department of Ecology: A Joint Aquatic Resources Permit Application, including a Section 10 permit, a Section 404 Permit, and a 401 Water Quality Certification.

State of Washington Department of Ecology: New or transferred Water Rights, a National Pollutant Discharge Elimination System (NPDES) Construction Stormwater General Permit, a Notice of Intent to Construct or Decommission a Well, and an Air Operating Permit, Notice to Construct.

State of Washington Department of Natural Resources: A Forest Practices Permit, and a Surface Mine Exploration and Reclamation Permit for state and private lands.

Washington State Department of Fish & Wildlife: Hydraulic Project Approvals on State and private lands.

Washington Department of Archaeology and Historic Preservation: Historical and Archaeological Review and concurrence (Section 106).

Okanogan County: A Floodplain Development Permit, Conditional Use and Noise Control Permits, Solid Waste Handling, and Road Construction and/or Realignment Permit.

Scoping Process

This notice of intent initiates the scoping process, which guides development of the Environmental Impact Statement (EIS). A public information meeting is planned to be held in Oroville, Washington on December 14, 2010 at the Oroville High School Commons from 5 to 7:30 p.m. Details concerning any additional public meetings, none presently scheduled, would be announced via local news media outlets. The lead and cooperating agencies are seeking information, comments, and assistance from federal, state, and local agencies, Native American Tribes and other individuals and organizations that may be interested in or affected by the proposed project. Input submitted during this initial scoping period will be used in preparation of the Draft EIS. The agencies are seeking public and agency comment on the proposed action to determine if any additional issues arise. Additional issues may lead either to other alternatives, or additional mitigation measures and monitoring requirements.

The scoping process includes identifying potential issues; identifying major issues to be analyzed in depth and identifying those that are not significant and can be eliminated from detailed study; exploring alternatives to the proposed action; identifying potential environmental effects of this project; and notifying interested members of the public of opportunities to participate through personal contacts or written comment.

It is important that reviewers provide their comments at such times and in such manner that they are useful to the agencies' preparation of the environmental impact statement. Therefore, comments should be provided prior to the close of the comment period and should clearly articulate the reviewer's concerns and contentions.

Comments received in response to this solicitation, including the names and addresses of those who comment, will be considered part of the public record for this proposed action. Comments submitted anonymously will be accepted and considered, however.

Dated: November 19, 2010.
Bobbie R. Scopa,
Acting Forest Supervisor.

[FR Doc. 2010-29776 Filed 11-24-10; 8:45 am]

BILLING CODE 3410-11-P